DEPARTMENT OF ENERGY

Federal Energy Regulatory Commission

Combined Notice of Filings #1

September 28, 2009.

Take notice that the Commission received the following electric rate filings:

Docket Numbers: ER05-118-007; ER03-796-008; ER05-131-007; ER05-454-006; ER06-1446-005; ER06-642-005; ER06-784-004; ER06-804-002; ER06-805-003; ER07-528-004; ER08-1125-002.

Applicants: Brookfield Energy Marketing Inc., Erie Boulevard Hydropower, L.P., Bear Swamp Power Company LLC, Rumford Falls Hydro LLC, Brookfield Power Piney & Deep Creek LLC, Brookfield Renewable Energy Marketing US, Carr Street Generating Station, L.P., Great Lakes Hydro America, LLC, Hawks Nest Hydro LLC, Katahdin Paper Company LLC, Brookfield Energy Marketing US LLC.

Description: Notice of Non-Material Change in Status of Bear Swamp Power Company LLC, et al.

Filed Date: 09/28/2009.

Accession Number: 20090928-5053.

Comment Date: 5 p.m. Eastern Time on Monday, October 19, 2009.

Docket Numbers: ER09-1359-002.

Applicants: PECO Energy Company.

Description: PECO Energy Company submits Transmission Facilities Agreement with Delmarva Power and Light Company.

Filed Date: 09/25/2009.

Accession Number: 20090928-0001.

Comment Date: 5 p.m. Eastern Time on Friday, October 16, 2009.

Docket Numbers: ER09-1386-001.

Applicants: Southwest Power Pool, Inc.

Description: Southwest Power Pool, Inc., submits Substitute Original Service Agreement 1824 et al. to FERC Electric Tariff, Fifth Revised Volume 1.

Filed Date: 09/25/2009.

Accession Number: 20090928-0002.

Comment Date: 5 p.m. Eastern Time on Friday, October 16, 2009.

Docket Numbers: ER09-1605-001.

Applicants: Silver Sage Windpower, LLC.

Description: Silver Sage Windpower, LLC submits First Substitute Sheet 1 et al. to FERC Electric Tariff, Volume 1.

Filed Date: 09/24/2009.

Accession Number: 20090925-0020.

Comment Date: 5 p.m. Eastern Time on Thursday, October 15, 2009.

Docket Numbers: ER09-1729-000.

Applicants: Conectiv Mid Merit, LLC.

Description: Conectiv Mid Merit, LLC submits application for market based rate authorization, request for related waivers and request for blanket approval under 18 CFR part 34 of all future issuances of securities.

Filed Date: 09/25/2009.

Accession Number: 20090925-0018.

Comment Date: 5 p.m. Eastern Time on Friday, October 16, 2009.

Docket Numbers: ER09-1739-000.

Applicants: ResCom Energy LLC.

Description: ResCom Energy, LLC submits Petition for Acceptance of Initial Tariff, Waivers and Blanket Authority.

Filed Date: 09/25/2009.

Accession Number: 20090925-0019.

Comment Date: 5 p.m. Eastern Time on Friday, October 16, 2009.

Docket Numbers: ER09-1743-000.

Applicants: Tampa Electric Company.

Description: Tampa Electric Company submits First Revised Rate Schedule FERC No. 32 et al.

Filed Date: 09/25/2009.

Accession Number: 20090925-0017.

Comment Date: 5 p.m. Eastern Time on Friday, October 16, 2009.

Docket Numbers: ER09-1741-000.

Applicants: PacifiCorp.

Description: PacifiCorp submits an updated Exhibit A to the Amended and Restated Transmission Agreement with Tri-State Generation and Transmission Association Inc., to be designated as Second Revised Sheet 26 et al.

Filed Date: 09/24/2009.

Accession Number: 20090925-0015.

Comment Date: 5 p.m. Eastern Time on Thursday, October 15, 2009.

Docket Numbers: ER09-1742-000.

Applicants: TransCanada Energy Marketing ULC.

Description: TransCanada Energy Marketing ULC submits Notice of Cancellation of its market based rate tariff, Rate Schedule FERC No 1 et al.

Filed Date: 09/24/2009.

Accession Number: 20090925-0016.

Comment Date: 5 p.m. Eastern Time on Thursday, October 15, 2009.

Docket Numbers: ER09-1744-000.

Applicants: California Independent System Operator Corporation.

Description: California Independent System Operator Corporation submits Second Revised Sheet 222 et al. to FERC Electric Tariff, Fourth Replacement Volume 1 to be effective 11/1/09.

Filed Date: 09/25/2009.

Accession Number: 20090928-0005.

Comment Date: 5 p.m. Eastern Time on Friday, October 16, 2009.

Docket Numbers: ER09-1745-000.

Applicants: PacifiCorp.

Description: PacifiCorp submits revisions to its business practices.

Filed Date: 09/25/2009.

Accession Number: 20090928-0004.

Comment Date: 5 p.m. Eastern Time on Friday, October 16, 2009.

Docket Numbers: ER09-1746-000.

Applicants: ISO New England Inc. & New England Power Pool.

Description: ISO New England Inc. et al. submit revisions to the Forward Capacity Market rules, effective 11/25/09.

Filed Date: 09/25/2009.

Accession Number: 20090928-0003.

Comment Date: 5 p.m. Eastern Time on Friday, October 16, 2009.

Take notice that the Commission received the following electric securities filings:

Docket Numbers: ES09-55-000.

Applicants: ITC Midwest LLC.

Description: Application of ITC Midwest LLC, FPA Section 204 for authorization to issue securities (deemed filed on Sept. 25 due to efiling server outage).

Filed Date: 09/25/2009.

Accession Number: 20090928-5011.

Comment Date: 5 p.m. Eastern Time on Friday, October 16, 2009.

Docket Numbers: ES09-56-000.

Applicants: Commonwealth Edison Company.

Description: Application of Commonwealth Edison Company under Section 204 of the Federal Power Act for Authorization of the Issuance of Securities.

Filed Date: 09/28/2009.

Accession Number: 20090928-5032.

Comment Date: 5 p.m. Eastern Time on Monday, October 19, 2009.

Docket Numbers: ES09-57-000.

Applicants: PECO Energy Company.

Description: Application of PECO Energy Company under Section 204 of the Federal Power Act for Authorization of the Issuance of Securities.

Filed Date: 09/28/2009.

Accession Number: 20090928-5041.

Comment Date: 5 p.m. Eastern Time on Monday, October 19, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. E9-24115 Filed 10-6-09; 8:45 am]

BILLING CODE 6717-01-P